DEPARTMENT OF AGRICULTURE

Forest Service

Grand Mesa, Uncompahgre and Gunnison National Forests Norwood Ranger District; Alta Town-site Road and Utilities Access, “Alta Access Project,” Hinsdale County, CO

AGENCY: Forest Service, USDA.

ACTION: Notice of Intent to Prepare an Environmental Impact Statement.

SUMMARY: A application for access to the town-site of Alta, Colorado under Alaska National Interest Lands Conservation Act (ANILCA) has been submitted for approval. The Forest Service (USFS) will prepare an Environmental Impact Statement (EIS) to assess and disclose the environmental effects of improved road and utilities access to the private inholdings at Alta, Colorado.

The Grand Mesa, Uncompahgre and Gunnison (GMUG) National Forest is initiating an environmental analysis in response to an application submitted by Silver Mountain Industries, Inc (SMI) for road and utility improvements, and year round access to SMI owned properties at and around the town-site of Alta. The SMI Property is located about one mile south of the incorporated limits of the Town of Mountain Village, in San Miguel County, Colorado. This project is commonly referred to as the Alta Access project. SMI is planning the development of 28 residential lots on 540 acres of SMI owned private land at Alta. The application to the Forest Service for road and utility improvements is to support this planned residential development. The SMI cluster development plan has been approved by the San Miguel County Board of County Commissioners. Portions of the proposed road improvements would occur on National Forest System (NFS) lands; others would occur on private property over which the Forest Service has easements for existing National Forest System Road (NFSR) 632.

The Colorado Department of Transportation (CDOT) has determined that the existing intersection of Alta Access Road with State Highway 145 fails to meet AASHTO road design standards, is unsafe, and needs to be corrected.

The Alta Access Road is designated as both NFSR 632 and San Miguel County Road 64F. This road is currently used primarily by persons visiting the USFS managed Alta Lakes dispersed recreation area. SMI visitation generates modest traffic on the road, as do visits or trips to other privately owned lands in the area.

SMI claims, and the Forest Service agrees, that SMI does have a right of access to their property under the ANILCA. No Inventoried Roadless areas are affected by this proposal.

The Forest Service will prepare an Environmental Impact Statement (EIS) to assess and disclose the environmental effects of access and utilities development of the Alta Access Project.

The EIS will comply with the requirements of the National Environmental Policy Act (42 U.S.C. sections 4321-4370a), the National Forest Management Act (16 U.S.C. 1600-1614), and their implementing regulations.

DATES: Comments concerning the proposal and the scope of the analysis will be accepted and considered at any time after publication of this notice in the Federal Register and prior to a decision being made. To be most helpful in the design of the analysis, comments should be received within 45 days of publication of this NOI in the Federal Register. An initial scoping for this project was done with a comment period extending from mid-March to April 20, before it was determined that an EIS would be necessary. Comments submitted to the Forest Service during that scoping period will be considered fully, and do not need to be resubmitted.The draft EIS is expected to be filed with the Environmental Protection Agency (EPA) and available for public review during October 2009. When a draft EIS is available the EPA will publish a Notice of Availability (NOA) in the Federal Register. The comment period on the draft EIS will be for a period of not less than 45 days from the date the EPA publishes the NOA in the Federal Register. The final EIS is expected to be available in January 2010.

ADDRESSES: Send written comments to Jeff Burch, Grand Mesa, Uncompahgre and Gunnison National Forest, Supervisor's Office, 2250 Highway 50, Delta, CO 81416. Electronic mail (e-mail) may be sent to comments-rocky-mountain-gmug@fs.fed.us and FAX may be sent to (970) 874-6698. Telephone: (970) 874-6649.

FOR FURTHER INFORMATION CONTACT: Jeff Burch, Environmental Coordinator, Grand Mesa, Uncompahgre and Gunnison National Forests, 2250 Highway 50, Delta, Colorado 81416. Telephone: (970) 874-6649.

SUPPLEMENTARY INFORMATION:

Purpose and Need for Action

The primary purpose and need for this project is to provide adequate access to the SMI property at Alta, as required by the Alaska National Interest Lands Conservation Act (ANILCA).

There is a need to correct unsafe conditions with regard to the current design of the intersection with State Highway 145, and the location of the first segment of NFSR 632 above the State Highway. There is also a need to provide adequate access to secure reasonable use and enjoyment of the county approved subdivision located at Alta, including year round access. Current access is not maintained in winter, nor will it provide for the predicted year-round increase in use.

There is a need to reach SMI privately owned land with natural gas and phone/fiber optic services.

Proposed Action/Preliminary Alternatives

In general terms, the proposed Alta Access Road and Utility improvements would entail granting SMI authority for the following actions on National Forest System lands: (1) Making improvements to Alta Access Road and Highway 145 Intersection, (2) relocating the lower section of the Alta Access Road and decommissioning the portion of existing road that has been replaced; (3) making improvements to the upper section of Alta access Road; (4) establishing road and utility easements across two short segments of National Forest of odd shaped ownership, for internal subdivision purposes; (5) long term use and maintenance of the proposed road and utility improvements; (6) granting a driveway easement access for an adjoining private land parcel; and (7) permitting SMI to erect private signs along NFSR 632 directing people to their subdivision.

See http://www.fs.fed.us/r2/gmug/policy/lands/alta/FinalScopingMap_low_rez.pdf for a map showing the project vicinity and proposed action elements.

More specifically, the proposed action follows:

1. Road construction/reconstruction of NFSR 632 to provide access to Alta Townsite.

a. Reconstruction of the intersection of NFSR 632 and Hwy 145 to comply with the AASHTO standards and in compliance with CDOT requirements. The relocated Alta Access Road/Hwy 145 Intersection is proposed by SMI to occur approximately 50 feet to the north of the existing Alta Access Road/Hwy 145 Intersection within the area of the Hwy 145 ROW. An alternative being considered is locating this intersection at the point of intersection of the old highway with Hwy 145, which is approximately ½ mile north of the existing intersection, across from the entrance to Sunshine campground. In either case this intersection with the highway would require construction of turning lanes and/or blending lanes on Hwy 145.

b. Relocation and construction as two 9-foot lanes, either paved or gravel, with 2 foot shoulders on either side, of the lower segment of NFSR 632 commencing at the Hwy 145 intersection and continuing to a point where it reconnects with the existing alignment. See Attached Map. Use of retaining walls would be emphasized to provide stability and reduce the area impacted, rather than expansive cuts and fills. Options to be considered in the analysis include the level of/standard of construction this road would be built to, including paving or gravel, width, turning radius of curves, design speed, and treatment of cut and fill.

c. Obliteration of, or decommissioning of, the segment of NFSR 632 that is being replaced. Options to be considered would address the level of ground disturbance for rehabilitation of this road alignment, or the use of it as a trail.

d. Re-construction as two 9 foot lanes, either paved or gravel, with 2-foot shoulders on either side plus ditches and other drainage structures, of the upper segment of NFSR 632 from the point where the relocated lower section joins the existing road, on the existing alignment to the SMI Property. Use of retaining walls would be consistent with the new construction, also to provide stability. Options in terms of road standards considered for this segment are the same as just above.

2. Use, repair and maintain the newly constructed/reconstructed road for year round access to Alta. This would include snowplowing.

3. Issuance of easements for, and construction of, short segments of road crossing National Forest System lands of internal subdivision roads and utility extensions at two locations. These are the small triangle shaped inclusion of NFS land, and a short segment where lower road crosses NFS to reach SMI. These would be built to the same standards as internal roads and utilities within the Alta subdivision.

4. Installation, operation, use, repair, and maintenance of utilities (specifically natural gas, phone/fiber optic) to the SMI property. Alternative routes for this access are (a) Along the old Boomerang Road from Mountain Village (this is the preferred route by the proponent), and (b) along the newly constructed and reconstructed NFSR 632 from Hwy 145.

5. “Signage” at the intersection of NFSR 632 with Hwy 145 indicating that this is the location of the access to Alta Subdivision.

6. Maintenance of a short segment of the old road alignment, instead of obliterating it with the replaced segment of lower NFSR 632, to serve as a driveway for property owner Richard Mayo.

As part of SMI proposals to mitigate impacts to winter recreation use of the Alta Lakes area, SMI has indicated plans to build a public parking area along the Alta Lakes access road, on SMI land to replace the parking that now takes place at the intersection with Hwy 145. As proposed by SMI, this parking area would accommodate approximately the same number of cars parking as are currently using the area at the bottom of the road near the highway.

Alaska National Interest Lands Conservation Act (ANILCA) of 1980

Section 1323 of ANILCA granted non-federal landowners the statutory right of access over public lands administered by the BLM (in Alaska only), and National Forest System lands anywhere, when such lands are needed to provide for the reasonable use and enjoyment of non-federal lands. The landowner's statutory right of access is limited to that which is adequate to secure to the owner the reasonable use and enjoyment of the subject non-federal land. The right of access is also subject to the reasonable rules and regulations of the Secretaries of Interior and Agriculture.

An ANILCA access situation exists where NFS lands are the only reasonable option available for the landowner to access their land for its reasonable use and enjoyment. In such cases, the Forest Service is obligated by the statute to grant such an access. However, the Forest Service has discretion in determining the location, design, and type of access that it will grant across Federal land. The type of access should be consistent with access to similarly situated lands in the area.

Lead and Cooperating Agencies

The Forest Service is the lead agency. San Miguel County and the Colorado Department of Transportation have been invited to become cooperating agencies. San Miguel County has declined. Colorado DOT has not responded.

Responsible Official

The Forest Supervisor of the Grand Mesa, Uncompahgre and Gunnison National Forests Charles S. Richmond, 2250 Highway 50, Delta, Colorado 81416 is the official responsible for making the decision on this action. He will document his decision and rationale in a Record of Decision.

Nature of Decision To Be Made

Several specific decisions are to be made through this process:

(1) Whether to authorize new construction of a segment of road, as proposed, connecting Highway 145 with upper portion of Alta Lakes road, or to authorize this segment of road elsewhere.

(2) Whether to authorize the upgrade of the upper portion of Alta Lakes road (NFSR 632) to just below the town-site of Alta, as proposed.

(3) Associated with 1 through 2 above, subject to what terms and conditions in terms of standards/specifications of construction and maintenance.

(4) What to do with the abandoned segment of NFSR 632.

(5) Whether, and by what route, and subject to what conditions to allow utilities access for phone/fiber optic and natural gas to the SMI property.

All of items 1-3 just above are being taken up under authorities of the Alaska National Interest Lands Act (ANICLA) as amended, and associated regulations at 36 CFR 251.

Scoping Process

Scoping for this project will consist of this notice in the Federal Register, mailing of this notice to parties known to be interested, a news release for publication in local newspapers, and notification of local elected representatives. At this time no public meetings are planned.

Preliminary Issues

The following have been identified as preliminary issues: Effects of road reconstruction, maintenance and use on Threatened or Engangered species (lynx); effects of potential road alignment along old highway location in terms of safety, effects to wetlands, impacts to private lands; what to do with the segment of the road that would be abandoned; effects of utilities installation along old Boomerang road on wildlife, and the redisturbance of the Boomerang road; and the effects of the proposed action on changing the character of the area.

Permits or Licenses Required

Additional permits or licenses which may be required in addition to Forest Service authorizations include, but are not limited to the following: Permit from Colorado Department of Transportation for highway access; San Miguel County subdivision approval for the subdivision of private lands being accessed.

Comment Requested

This notice of intent initiates the scoping process which guides the development of the environmental impact statement. Public scoping describing the proposed ANILCA access to Alta town-site is being initiated with this Notice of Intent. Comments from this scoping effort will be reviewed to identify potential issues for this analysis. While comments are welcome at any time, comments received within 45 days of the publication of this notice in the Federal Register will be most useful for the identification of issues and the analysis of alternatives. The name and mailing address of commenters should be provided with their comments so that future documents pertaining to this environmental analysis and the decision can be provided to interested parties.

In the final EIS, the Forest Service will respond to any comments, received during the public review of the draft EIS, that pertain to the environmental analysis. Those comments and the Forest Service responses will be disclosed and discussed in the final EIS and will be considered when the final decision about this proposal is made.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Dated: June 4, 2009.
Sherry Hazelhurst,
Deputy Forest Supervisor.

[FR Doc. E9-14732 Filed 6-22-09; 8:45 am]

BILLING CODE 3410-11-P